DEPARTMENT OF COMMERCE

Submission for OMB Review; Comment Request

The Department of Commerce will submit to the Office of Management and Budget (OMB) for clearance the following proposal for collection of information under the provisions of the Paperwork Reduction Act (44 U.S.C. Chapter 35).

Agency: International Trade Administration (ITA).

Title: Certified Trade Mission: Application for Status.

OMB Control Number: 0625-0215.

Form Number(s): ITA-4127P.

Type of Request: Regular submission.

Burden Hours: 60.

Number of Respondents: 60.

Average Hours Per Response: 1.

Needs and Uses: Certified Trade Missions are overseas events that are planned, organized and led by both Federal and non-Federal government export promotion agencies such as industry trade associations, agencies of state and local governments, chambers of commerce, regional groups and other export-oriented groups. The Certified Trade Mission-Application for Status form is the vehicle by which individual firms apply, and if accepted, agree to participate in the Department of Commerce's (DOC) trade promotion events program, identify the products or services they intend to sell or promote, and record their required participation fees.

The form is used to:

(1) Collect information about the products/services that a company wishes to export;

(2) evaluate applicants' mission goals and the marketability of product categories/industry in the local market; and

(3) develop appropriate meeting schedules for clients.

Affected Public: Business or other for profit organizations, not-for-profit institutions.

Frequency: On occasion.

Respondent's Obligation: Required to obtain or retain a benefit.

OMB Desk Officer: Wendy L. Liberante, Phone (202) 395-3647.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to Wendy L. Liberante, OMB Desk Officer, FAX number (202) 395-7285 or via the Internet at Wendy_L._Liberante@omb.eop.gov.

Dated: March 19, 2010.
Gwellnar Banks,
Management Analyst, Office of the Chief Information Officer.

[FR Doc. 2010-6522 Filed 3-23-10; 8:45 am]

BILLING CODE 3510-FP-P